DEPARTMENT OF ENERGY

Federal Energy Regulatory Commission

[Docket No. CP00-196-000]

Transcontinental Gas Pipe Line Corporation; Notice of Application

April 28, 2000.

Take notice that on April 19, 2000, Transcontinental Gas Pipe Line Corporation (Transco), Post Office Box 1396, Houston, Texas 77251, filed in Docket No. CP00-196-000 an application pursuant to Section 7(c) of the Natural Gas Act (NGA) for a certificate of public convenience and necessity authorizing Transco to construct and operate certain facilities at Compressor Station No. 90 in Marengo County, Alabama to comply with the Clean Air Act Amendments of 1990, all as more fully set forth in the application which is on file with the Commission and open to public inspection. This filing may be viewed on the web at http://www.ferc.fed.us/online/rims.htm (call 202-208-2222 for assistance).

Any questions regarding the application should be directed to Alfred E. White, Jr., Senior Attorney, Transcontinental Gas Pipe Corporation, Post Office Box 1396, Houston, Texas 77251 or call (713) 215-2000.

Transco states that the Clean Air Act Amendments of 1990 and state implementation plans pursuant thereto require certain reductions of NOX (oxides of nitrogen) air emissions at certain of Transco's compressor stations. Accordingly, over the next few years Transco plans to install certain facilities at these stations to achieve the reductions of NOX. Transco plans to install these facilities pursuant to Transco's blanket facilities certificate issued in Docket No. CP82-426 when it is authorized to do so (either under automatic or prior notice authorization, depending on the estimated dollar amount). However, at the stations where the estimated total cost of installing these facilities is more than $20.2 million, Transco states that it is not authorized to perform such work pursuant to its blanket facilities certificate and, therefore, is required to file an application for a certificate of public convenience and necessity (such is the case with the instant application).

Transco states that proposes to modify several of its existing reciprocating engines at Compressor Station No. 90 in order to comply with the State of Alabama plan to implement the Clean Air Act Amendments of 1990. Station 90 has 17 units including 15 reciprocating/compressor units, one Solar Centaur gas turbine and one Solar Mars gas turbine driven centrifugal compressor unit. The facilities at Station 90 are located within a fenced area of approximately 58 acres.

Transco states that it plans to install turbochargers and associated equipment on 9 of the 15 reciprocating engines in order to reduce NOX emissions. These engines currently do not have turbochargers on them. Transco plans to modify the existing turbochargers at the other 6 reciprocating units to increase their capacity and install associated equipment in order to reduce NOX emissions. At all 15 engines emissions will be reduced by achieving a true lean air-fuel ratio, injecting high pressure fuel directly into the power cylinders and making other engine adjustments. The injection of high pressure fuel directly into the power cylinders significantly improves the combustion process by producing a more homogeneous mixture of air and fuel within the power cylinder. The true lean air-fuel ratio coupled with the high pressure fuel injection works by promoting stable combustion characteristics and thus reduces the formation of NOX.

Transco states the 9 engines which will have turbochargers installed will have the potential to perform above their current operating horsepower. However, since Station 90 is automated, it is stated that Transco has the ability to shut down other engines or reduce their load to ensure that the station will not operate above the station's total certificated horsepower. Since Transco will install these turbochargers at Station 90 solely to achieve an environmental improvement i.e., lower NOX emissions, Transco states that it has no intent or need to operate the station above its certificated horsepower. Therefore, when Transco installs these turbochargers at Station 90 Transco states that it will adjust the automation program at the station so that it will not operate above its certificated horsepower.

At the other 6 engines, Transco states that modification of the existing turbochargers to increase their capacity will not create the potential of these engines performing above their current horsepower because the engines are already operating at maximum horsepower and cannot operate at a higher horsepower output. Accordingly, it is stated that there will be no increase in the capacity of Transco's system in the vicinity of the station as a result of installing the 9 new turbochargers and modifying the 6 existing turbochargers.

Transco states that installation of new turbochargers and modifications to existing ones at Station 90 will require some work to be done outside of the compressor building. All of the proposed work described above will be built within 50 feet of existing station facilities and will be done within the confines of previously disturbed areas. Approximately 0.7 acre of previously disturbed ground will be affected by the proposed project. Restoration of this area will be conducted according to the Commission's Upland Erosion Control, Revegetation, and Maintenance Plan.

Transco estimates that the proposed modifications will cost $24.5 million. Transco states that a state air permit will be negotiated with the Alabama Department of Environmental Management.

Transco states that the construction and operation of the proposed facilities will have no significant impact on the quality of human health or the environment other than the positive impact of reducing NOX emissions. The proposed facilities will be installed either entirely within existing buildings or within 50 feet of existing station facilities (and within the confines of previously disturbed areas). Transco certifies that the proposed facilities will be designed, constructed, operated and maintained in accordance with all applicable safety standards and plans for maintenance and inspection.

Any person desiring to participate in the hearing process or to make any protest with reference to said application should on or before May 19, 2000, file with the Federal Energy Regulatory Commission, 888 First Street, N.E., Washington, D.C. 20426, a motion to intervene or a protest in accordance with the requirements of the Commission's Rules of Practice and Procedure (18 CFR 385.214 or 385.211) and the Regulations under the Natural Gas Act (18 CFR 157.10). All protests filed with the Commission will be considered by it in determining the appropriate action to taken but will not serve to make the protestants parties to the proceeding. The Commission's rules require that protestors provide copies of their protests to the party or parties directory involved. Any person wishing to become a party to a proceeding or the participate as a party in any hearing therein must file a motion to intervene in accordance with Commission's Rules.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by Sections 7 and 15 of the Natural Gas Act and the Commission's Rules of Practice and Procedure, a hearing will be held without further notice before the Commission or its designee on this application if not motion to intervene is filed within the time required herein, if the Commission on its own review of the matter finds that a grant of the certificate is required by the public convenience and necessity. If a motion for leave to intervene is timely filed, or if the Commission on its own motion believes that a formal hearing is required, further notice of such hearing will be duly given.

Under the procedure provided for, unless otherwise advised, it will be unnecessary for Transco to appear or be represented at the hearing.

Linwood A. Watson, Jr.,
Acting Secretary.

[FR Doc. 00-11076 Filed 5-3-00; 8:45 am]

BILLING CODE 6717-01-M